DEPARTMENT OF LABOR

Employment and Training Administration

[TA-W-62,507]

Chester Bednar Rental Realty, Washington, PA; Notice of Affirmative Determination Regarding Application for Reconsideration

By application dated December 19, 2007, a company official requested administrative reconsideration of the Department's negative determination regarding eligibility for workers and former workers of Chester Bednar Rental Realty, Washington, Pennsylvania (subject firm) to apply for Trade Adjustment Assistance (TAA) and Alternative Trade Adjustment Assistance (ATAA). The determination was issued on December 11, 2007, and the Department's Notice of negative determination was published in the Federal Register on December 31, 2007 (72 FR 74344). The subject workers are engaged in buying, renting, repairing, and selling single family homes.

The TAA/ATAA petition was denied because the subject firm did not separate or threaten to separate a significant number or proportion of workers as required by Section 222 of the Trade Act of 1974. Significant number or proportion of the workers in a firm or appropriate subdivision means at least three workers in a workforce of fewer than 50 workers, five percent of the workers in a workforce of over 50 workers, or at least 50 workers.

In the request for reconsideration, the company official implied that the subject firm had “cash employees.” The request for reconsideration did not provide any documentation to support the position that the subject firm had more than three employees.

The Department has carefully reviewed the request for reconsideration and has determined that the Department will conduct further investigation.

Conclusion

After careful review of the application, I conclude that the claim is of sufficient weight to justify reconsideration of the U.S. Department of Labor's prior decision. The application is, therefore, granted.

Signed at Washington, DC, this 8th day of January 2008.
Elliott S. Kushner,
Certifying Officer, Division of Trade Adjustment Assistance.

[FR Doc. E8-594 Filed 1-15-08; 8:45 am]

BILLING CODE 4510-FN-P